DEPARTMENT OF AGRICULTURE

Animal and Plant Health Inspection Service

[Docket No. 98-090-3]

Classical Swine Fever: Availability of Risk Analysis Related to the Importation of Swine and Swine Products From the European Union

AGENCY: Animal and Plant Health Inspection Service, USDA.

ACTION: Notice of reopening and extension of comment period.

SUMMARY: We are reopening and extending the comment period for a revised analysis of the risk of introducing classical swine fever virus in swine and swine products imported from the European Union. This action will allow interested persons additional time to prepare and submit comments.

DATES: We will consider all comments that we receive on or before July 17, 2002.

ADDRESSES: You may submit comments by postal mail/commercial delivery or by e-mail. If you use postal mail/commercial delivery, please send four copies of your comment (an original and three copies) to: Docket No. 98-090-2, Regulatory Analysis and Development, PPD, APHIS, Station 3C71, 4700 River Road Unit 118, Riverdale, MD 20737-1238. Please state that your comment refers to Docket No. 98-090-2. If you use e-mail, address your comment to regulations@aphis.usda.gov. Your comment must be contained in the body of your message; do not send attached files. Please include your name and address in your message and “Docket No. 98-090-2” on the subject line.

You may read the revised risk analysis and any comments that we receive on that document in our reading room. The reading room is located in room 1141 of the USDA South Building, 14th Street and Independence Avenue SW., Washington, DC. Normal reading room hours are 8 a.m. to 4:30 p.m., Monday through Friday, except holidays. To be sure someone is there to help you, please call (202) 690-2817 before coming.

You may request a copy of “Risk Analysis for Importation of Classical Swine Fever in Swine and Swine Products from the European Union December 2000” by writing to the person listed below under FOR FURTHER INFORMATION CONTACT. The risk analysis is also available on the Internet. Instructions for electronic access are included below under SUPPLEMENTARY INFORMATION.

APHIS documents published in the Federal Register, and related information, including the names of organizations and individuals who have commented on APHIS dockets, are available on the Internet at http://www.aphis.usda.gov/ppd/rad/webrepor.html.

FOR FURTHER INFORMATION CONTACT: Dr. Anne Goodman, Supervisory Staff Officer, Regionalization Evaluation Services Staff, National Center for Import and Export, VS, APHIS, 4700 River Road Unit 38, Riverdale, MD 20737-1231; (301) 734-4356.

SUPPLEMENTARY INFORMATION:

Background

On May 3, 2002, we published in the Federal Register (67 FR 22388-22389, Docket No. 98-090-2) a notice of the availability of and request for comments on a revised risk analysis of the risk of introducing classical swine fever virus in swine and swine products imported from the European Union.

Comments on the revised risk analysis were required to be received on or before July 2, 2002. We are reopening and extending the comment period on the risk analysis for an additional 15 days ending July 17, 2002. This action will allow interested persons additional time to prepare and submit comments.

Accessing the Revised Risk Analysis on the Internet

The Internet address for accessing the revised risk analysis is http://www.aphis.usda.gov/vs/reg-request.html. At the bottom of that Web site page, click on “Information previously submitted by Regions requesting export approval and their supporting documentation.” At the next screen, click on the triangle beside “European Union/Not Specified/Classical Swine Fever,” then on the triangle beside “Response by APHIS.” A link will then appear for “Risk Analysis for Importation of Classical Swine Fever Virus in Swine and Swine Products from the European Union December 2000.” Following that link will allow you to view the revised risk analysis.

Authority: 7 U.S.C. 450, 1622, 7711-7714, 7751, 7754, 8303, 8306, 8307, 8308, 8310, 8311, 8313, and 8315; 21 U.S.C. 136 and 136a; 31 U.S.C. 9701; 42 U.S.C. 4331 and 4332; 7 CFR 2.22, 2.80, and 371.4.

Done in Washington, DC, this 2nd day of July 2002.
Bobby R. Acord,
Administrator, Animal and Plant Health Inspection Service.

[FR Doc. 02-16992 Filed 7-3-02; 8:45 am]

BILLING CODE 3410-34-P